DEPARTMENT OF JUSTICE

Notice of Lodging of Proposed Consent Decree Under the Comprehensive Environmental Response, Compensation, and Liability Act and the Resource Conservation and Recovery Act

On April 20, 2016, the Department of Justice and the State of California on behalf of the California Department of Toxic Substances Control and Toxic Substances Control Account (“DTSC”) filed a complaint and lodged a proposed Consent Decree with the United States District Court for the Central District of California pertaining to environmental contamination at Operable Unit 2 (“OU2”) of the Omega Chemical Corporation Superfund Site (“Site”) in Los Angeles County, California. The complaint and proposed Consent Decree were filed contemporaneously in the matter of United States of America and State of California on behalf of the Department of Toxic Substances Control and Toxic Substances Control Account v. Abex Aerospace et al., Civil Action No. 2:16-cv-02696 (C.D. Cal.).

The proposed Consent Decree resolves certain claims under Sections 106 and 107 of the Comprehensive Environmental Response, Compensation, and Liability Act, 42 U.S.C. 9606, 9607 and Section 7003 of the Resource Conservation and Recovery Act, 42 U.S.C. 6973, as well as related state law claims, in connection with environmental contamination at OU2. The Consent Decree requires the settling defendants, which include as Settling Work Defendants the members of the Omega PRP Organized Group (“OPOG”) and McKesson Corporation, and also include various Settling Cash Defendants, to perform work at OU2 and to make a payment of $8 million toward the United States' unreimbursed OU2 past costs, and a payment of $70,000 towards DTSC's unreimbursed OU2 past costs. The proposed Consent Decree also requires the settling defendants to pay the United States' and DTSC's future response costs for overseeing the work the settling defendants will be performing at OU2.

The publication of this notice opens a period for public comment on the Consent Decree. Comments should be addressed to the Assistant Attorney General, Environment and Natural Resources Division, and should refer to United States of America and State of California on behalf of the Department of Toxic Substances Control and Toxic Substances Control Account v. Abex Aerospace et al., D.J. Ref. No. 90-11-3-06529/10. A hearing will be held on the proposed settlement if requested in writing within the public comment period. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $86.50 (25 cents per page reproduction cost) for the Consent Decree, payable to the United States Treasury. For a paper copy without the exhibits and signature pages, the cost is $22.75.

Henry S. Friedman,
Assistant Section Chief, Environmental Enforcement Section, Environment and Natural Resources Division.

[FR Doc. 2016-09864 Filed 4-26-16; 8:45 am]

BILLING CODE 4410-15-P